DEPARTMENT OF THE INTERIOR

Fish and Wildlife Service

Availability of a Draft Supplemental Environmental Assessment on the Continuation of General Swan Hunting Seasons in Parts of the Pacific Flyway

AGENCY: Fish and Wildlife Service, Interior.

ACTION: Notice of availability.

SUMMARY: This Notice advises the public that a Draft Supplemental Environmental Assessment on the Continuation of General Swan Hunting Seasons in Parts of the Pacific Flyway is available for public review. Comments and suggestions are requested.

DATES: You must submit comments on the Draft Environmental Assessment by May 22, 2000.

ADDRESSES: Copies of the Draft Environmental Assessment can be obtained by writing to Robert Trost, Pacific Flyway Representative, U.S. Fish and Wildlife Service, Office of Migratory Bird Management, 911 N.E. 11th Avenue, Portland, Oregon 97232-4181. Written comments can be sent to the same address. All comments received, including names and addresses, will become part of the public record. You may inspect comments during normal business hours at the same address.

FOR FURTHER INFORMATION CONTACT: Robert Trost at: Pacific Flyway Representative, U.S. Fish and Wildlife Service, Office of Migratory Bird Management, 911 N.E. 11th Avenue, Portland, Oregon 97232-4181, (503) 231-6162.

SUPPLEMENTARY INFORMATION: The Draft Supplemental Assessment includes a review of the past 5-year experimental general swan hunting seasons in parts of the Pacific Flyway and alternatives for establishment of future operational swan hunting seasons in the same area. The Supplemental Assessment was prompted by requests from individuals, States, and various conservation organizations for a thorough examination of alternatives for swan hunting in the Pacific Flyway in light of continuing concerns for the Rocky Mountain Population of trumpeter swans. The Assessment deals with establishment of an operational approach for swan hunting and related efforts to address status and distributional concerns regarding the Rocky Mountain Population of trumpeter swans. Four alternatives, including the proposed action, are considered.

Dated: March 13, 2000.
John G. Rogers,
Deputy Director, U.S. Fish and Wildlife Service.

[FR Doc. 00-6933 Filed 3-22-00; 8:45 am]

BILLING CODE 4310-55-P